DEPARTMENT OF COMMERCE

International Trade Administration

[C-423-809]

Stainless Steel Plate in Coils From Belgium: Extension of Time Limit for Preliminary Results of the Countervailing Duty Administrative Review

AGENCY: Import Administration, International Trade Administration, Department of Commerce.

DATES: Effective Date: January 28, 2009.

FOR FURTHER INFORMATION CONTACT: Alexander Montoro at (202) 482-0238 or David Layton at (202) 482-0371; AD/CVD Operations, Office 1, Import Administration, International Trade Administration, U.S. Department of Commerce, 14th Street and Constitution Avenue, NW., Washington, DC 20230.

SUPPLEMENTARY INFORMATION:

Background

On July 1, 2008, the Department published a notice of initiation of administrative review of the countervailing duty order on stainless steel plate in coils from Belgium, covering the period January 1, 2007 through December 31, 2007. See Initiation of Antidumping and Countervailing Duty Administrative Reviews and Requests for Revocation in Part, 73 FR 37409 (July 1, 2008).

Statutory Time Limits

Section 751(a)(3)(A) of the Tariff Act of 1930, as amended (“the Act”), requires the Department of Commerce (“the Department”) to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limit for Preliminary Results

Due to the complex nature of the countervailable subsidy practices and a merger involving the respondent company, the Department requires additional time to review and analyze the information and to issue supplemental questionnaires. Therefore, it is not practicable to complete this review within the originally anticipated time limit, and the Department is extending the time limit for completion of the preliminary results by 120 days to not later than May 31, 2009, in accordance with section 751(a)(3)(A) of the Act. However, May 31, 2009, falls on a Sunday and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary results is now no later than June 1, 2009.

We are issuing and publishing this notice in accordance with sections 751(a)(3)(A) and 777(i)(1) of the Act.

Dated: January 16, 2009.
Stephen J. Claeys,
Deputy Assistant Secretary for Import Administration.

[FR Doc. E9-1720 Filed 1-27-09; 8:45 am]

BILLING CODE 3510-DS-P